DEPARTMENT OF THE INTERIOR

Bureau of Land Management

[LLAZC01000.L14300000.ES0000.241A, AZA 34298]

Notice of Realty Action; Recreation and Public Purposes Act Classification; Lease and Conveyance of Public Land; Arizona

AGENCY: Bureau of Land Management, Interior.

ACTION: Notice of Realty Action.

SUMMARY: The Mohave County Community College District (College) filed an application to lease/purchase approximately 12.5 acres of public land in Mohave County, Arizona, under the provisions of the Recreation and Public Purposes (R&PP) Act, as amended, for the purpose of a community college. The Bureau of Land Management (BLM) has examined and found the land suitable to be classified for lease and/or conveyance under the provisions of the R&PP Act.

DATES: Interested parties may submit written comments regarding the proposed classification and lease or conveyance of this public land on or before July 6, 2010.

ADDRESSES: Mail written comments to Ruben Sanchez, BLM Field Manager, Kingman Field Office, 2755 Mission Boulevard, Kingman, Arizona, 86401.

FOR FURTHER INFORMATION CONTACT: Andy Whitefield, Environmental Protection Specialist, at the above address, or by e-mail at: andy_whitefield@blm.gov, or phone (928) 718-3746.

SUPPLEMENTARY INFORMATION: The BLM has examined and found suitable to be classified for lease and subsequent conveyance under the provisions of the R&PP Act, as amended (43 U.S.C. 869 et seq.), the following described public land:

Gila and Salt River Meridian

T. 21 N., R. 18 W.,

Sec. 8, S½S½SW¼NW¼NW¼ and NW¼SW¼NW¼.

The area described contains approximately 12.5 acres, more or less, in Mohave County.

In accordance with the R&PP Act, the College filed an application to lease and/or purchase the above-described property to develop as a community college. The proposed facilities would consist of classrooms, offices, computer facilities, library and bookstore, athletic facilities, and related appurtenances for educational purposes. The community college would provide important educational services for a portion of Mohave County which has experienced rapid population growth. Additional detailed information pertaining to this application, plan of development, and site plan is located in case file AZA 34298 at the BLM Kingman Field Office at the address above.

The College is a political subdivision of the State of Arizona and is therefore a qualified applicant under the R&PP Act. The above-described land is not needed for any Federal purpose. Lease and/or conveyance of the land to the College would be in conformance with the BLM Kingman Resource Management Plan, approved March 1995, and would be in the public interest. The College has not applied for more than 640 acres for public purposes other than recreation in a year, the limit set in 43 CFR 2741.7(a)(2), and has submitted a statement in compliance with the regulations at 43 CFR 2741.4(b).

Any lease or conveyance will be subject to the provisions of the R&PP Act and applicable regulations of the Secretary of the Interior, and will be subject to the following terms, conditions, and reservations:

1. A right-of-way thereon for ditches and canals constructed by the authority of the United States Act of August 30, 1890, 26 Stat. 391 (43 U.S.C. 945);

2. All minerals shall be reserved to the United States, together with the right to prospect for, mine and remove such deposits from the same under applicable law and such regulations as the Secretary of the Interior may prescribe;

3. Right-of-way AZAR 032609 for a water pipeline granted to Valley Pioneers Water Company, its successors and assigns, pursuant to the Act of February 15, 1901 (43 U.S.C. 959);

4. Right-of-way AZAR 033291 for power line purposes granted to UniSource Energy Corporation, its successors and assigns, pursuant to the Act of March 4, 1911 (43 U.S.C. 961);

5. Right-of-way AZA 017931 for a road, granted to the Mohave County Board of Supervisors, its successors and assigns, pursuant to Section 501 of the Federal Land Policy and Management Act (FLPMA) (43 U.S.C. 1761);

6. Right-of-way AZA 021363 held by UNS Electric for power line purposes, pursuant to Section 501 of FLPMA (43 U.S.C. 1761);

7. All valid existing rights documented on the official public land records at the time of lease or patent issuance;

8. An appropriate indemnification clause protecting the United States from claims arising out of the lessee/patentee's use, occupancy, or operations on the leased/patented lands; and

9. Any other terms or conditions deemed necessary or appropriate by the authorized officer.

Upon publication of this notice in the Federal Register, the lands will be segregated from all other forms of appropriation under the public land laws, including the general mining laws, except for lease or conveyance under the R&PP Act and leasing under the mineral leasing laws.

Classification Comments: Interested persons may submit comments involving the suitability of the land for development of a community college. Comments on the classification are restricted to whether: (1) The land is physically suited for the proposal or any other issues that would be pertinent to the environmental assessment (prepared under the National Environmental Policy Act of 1969) for this action; (2) The use will maximize the future use or uses of the land; (3) The use is consistent with local planning and zoning; and (4) The use is consistent with State and Federal programs.

Application Comments: Interested parties may submit comments regarding the specific use proposed in the application and plan of development, whether the BLM followed proper administrative procedures in reaching the classification decision, or any other factor not directly related to the suitability of the land for R&PP use as a community college.

Before including your address, phone number, e-mail address, or other personal identifying information in your comment, you should be aware that your entire comment—including your personal identifying information—may be made publicly available at any time. While you can ask us in your comment to withhold your personal identifying information from public review, we cannot guarantee that we will be able to do so. Any adverse comments will be reviewed by the BLM State Director who may sustain, vacate, or modify this realty action. In the absence of any adverse comments, the classification will become effective on July 19, 2010. The land will not be available for lease or conveyance until after the classification becomes effective.

(Authority: 43 CFR 2741.5)

Ruben A. Sánchez,
Kingman Field Manager.

[FR Doc. 2010-12158 Filed 5-19-10; 8:45 am]

BILLING CODE 4310-32-P